DEPARTMENT OF AGRICULTURE

Foreign Agricultural Service

Notice of Request for Approval of a New Information Collection

AGENCY: Foreign Agricultural Service, USDA.

ACTION: Notice and request for comments.

SUMMARY: In accordance with the Paperwork Reduction Act of 1995, this notice announces the intention of the Foreign Agricultural Service to request approval for a new information collection for the USDA's Quality Samples Program.

DATES: Comments on this notice must be received by April 24, 2017.

ADDRESSES: FAS invites interested persons to submit comments on this notice. Comments may be submitted by one of the following methods:

• Federal eRulemaking Portal: This Web site provides the ability to type short comments directly into the comment field or attach a file for lengthier comments. Go to http://www/regulations.gov. Follow the on-line instructions at the site for submitting comments.

• Mail, including CD-ROMs, etc.: Send to Curt Alt, U.S. Department of Agriculture, Foreign Agricultural Service, 1400 Independence Avenue SW., Room 6512, Washington, DC 20250.

• Hand or courier delivered submittals: Deliver to Curt Alt, U.S. Department of Agriculture, Foreign Agricultural Service, 1400 Independence Avenue SW., Room 6512, Washington, DC 20250.

Instructions: All items submitted by mail or electronic mail must include the agency name. Comments received in response to this docket will be made available for public inspection and posted without change, including any personal information, to http://www.regulations.gov.

FOR FURTHER INFORMATION CONTACT: Curt Alt, Program Operations Division, Foreign Agricultural Service, U.S. Department of Agriculture, Room 6512, Washington, DC 20250-1034, telephone: (202) 690-4784, email: PODAdmin@FAS.usda.gov.

SUPPLEMENTARY INFORMATION: Title: USDA Quality Samples Program.

OMB Number: 0551—New.

Expiration Date of Approval: Three years from approval date.

Type of Request: New information collection.

Abstract: Under the USDA Quality Samples Program, information will be gathered from applicants desiring to receive grants under the program to determine the viability of requests for resources to implement activities in foreign countries. Recipients of grants under the program must submit written evaluation reports as set forth in the annual Notices of Funding Availability for the Quality Samples Program. Submitted information is used to develop effective grant agreements and assure that statutory requirements and program objectives are met.

Estimate of Burden: The public reporting burden for each respondent resulting from information collection under the USDA Quality Samples Program varies in direct relation to the number and type of agreements entered into by such respondent. The estimated average reporting burden for the USDA Quality Samples Program is 4.4 hours per response.

Type of Respondents: Government agencies, private organizations, agricultural cooperatives, and export trade associations.

Estimated Number of Respondents: 10 per annum.

Estimated Number of Responses per Respondent: 25 per annum.

Estimated Total Annual Burden of Respondents: 1,100 hours.

Copies of this information collection can be obtained from Connie Ehrhart, the Agency Information Collection Coordinator, at (202) 690-1578 or email at Connie.Ehrhart@fas.usda.gov.

Request for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology. Comments may be sent to the Director, Program Operations Division, FAS, USDA, Room 6512, Washington, DC 20250, or to PODAdmin@FAS.usda.gov. Comments may also be sent to the Desk Officer for Agriculture, Office of Information and Regulatory Affairs, Office of Management and Budget (OMB), Washington, DC 20503.

All comments received in response to this notice, including names and addresses when provided, will be a matter of public record. Comments will be summarized and included in the submission for Office of Management and Budget approval.

E-Government Act Compliance

FAS is committed to complying with the E-Government Act of 2002, to promote the use of the Internet and other information technologies to provide increased opportunities for citizen access to Government information and services, and for other purposes.

Persons with disabilities who require an alternative means for communication of information (e.g., Braille, large print, audiotape, etc.) should contact USDA's Target Center at (202) 720-2600 (voice and TDD).

Dated: February 13, 2017.
Holly Higgins,
Acting Administrator, Foreign Agricultural Service.

[FR Doc. 2017-03429 Filed 2-21-17; 8:45 am]

BILLING CODE 3410-10-P